DEPARTMENT OF TRANSPORTATION

Surface Transportation Board

[STB Finance Docket No. 34079]

San Jacinto Rail Limited Construction Exemption and The Burlington Northern and Santa Fe Railway Company Operation Exemption—Build-Out To The Bayport Loop Near Houston, Harris County, TX

AGENCY: Surface Transportation Board, DOT.

ACTION: Notice of exemption.

SUMMARY: Under 49 U.S.C. 10502, the Board conditionally exempts from the prior approval requirements of 49 U.S.C. 10901 the construction by San Jacinto Rail Limited and the operation by The Burlington Northern and Santa Fe Railway Company of a 12.8-mile line of railroad serving the Bayport Industrial District in southeast Houston, Harris County, TX, near Galveston Bay. The line will connect the Bayport Loop with the former Galveston, Henderson and Houston Railroad line now owned by Union Pacific Railroad Company near the southeast corner of Ellington Field.

DATES: The exemption is subject to our further consideration of the anticipated environmental impacts of the proposal and will not become effective until the environmental review process is completed. Once that process is completed, the Board will issue a further decision addressing the environmental issues and making the exemption effective at that time, if appropriate, subject to any necessary conditions. Petitions to reopen must be filed by September 17, 2002.

ADDRESSES: Send comments (an original and 10 copies) referring to STB Finance Docket No. 34079, to: Surface Transportation Board, 1925 K Street, NW., Washington, DC 20423-0001. In addition, send one copy of comments to applicants' representatives: (1) Richard E. Weicher, The Burlington Northern and Santa Fe Railway Company, 2500 Lou Menk Drive, Third Floor, Fort Worth Texas, 76131-0039; and (2) Erika Z. Jones, Mayer, Brown, Rowe & Maw, 1909 K Street, NW., Washington, DC 20006.

FOR FURTHER INFORMATION CONTACT: Joseph H. Dettmar, (202) 565-1600. [Federal Information Relay Service (FIRS) for the hearing impaired: 1-800-877-8339.]

SUPPLEMENTARY INFORMATION: Additional information is contained in the Board's decision. To purchase a copy of the full decision, write to, call, or pick up in person from: Da 2 Da Legal Copy Service, Room 405, 1925 K Street, NW., Washington, DC 20006. Telephone: (202) 293-7776. [Federal Information Relay Service (FIRS) for the hearing impaired: 1-800-877-8339.]

Board decisions and notices are available on our Web site at WWW.STB.DOT.GOV.

Decided: August 19, 2002.
By the Board, Chairman Morgan and Vice Chairman Burkes.
Vernon A. Williams,
Secretary.

[FR Doc. 02-21548 Filed 8-27-02; 8:45 am]

BILLING CODE 4915-00-P